DEPARTMENT OF LABOR

Occupational Safety and Health Administration

[Docket No. ICR-1218-0061(2002)]

Cotton Dust Standard (29 CFR 1910.1043); Extension of the Office of Management and Budget's (OMB) Approval of the Information-Collection (Paperwork) Requirements

AGENCY: Occupational Safety and Health Administration (OSHA), Labor.

ACTION: Request for comment.

SUMMARY: OSHA requests comment concerning its proposal to decrease the existing burden-hour estimates for, and to extend OMB approval of, the collection-of-information requirements specified by the Cotton Dust Standard (29 CFR 1910.1043).¹ This standard protects employees from occupational exposures to cotton dust; cotton-dust exposure causes pulmonary disease (e.g., byssinosis) that may result in death and serious illness.

¹ Based on its assessment of the paperwork requirements contained in this standard, the Agency estimates that the total burden hours decreased compared to its previous burden-hour estimate. Under this notice, OSHA is not proposing to revise these paperwork requirements in any substantive manner, only to decrease the burden hours imposed by the existing paperwork requirements.

DATES: Submit written comments on or before February 4, 2002.

ADDRESSES: Submit written comments to the Docket Office, Docket No. ICR-1218-0061(2001), OSHA, U.S. Department of Labor, Room N-2625, 200 Constitution Avenue, NW., Washington, DC 20210; telephone (202) 693-2350. Commenters may transmit written comments of 10 pages or less by facsimile to (202) 693-1648.

FOR FURTHER INFORMATION CONTACT: Todd Owen, Directorate of Policy, OSHA, U.S. Department of Labor, Room N-3641, 200 Constitution Avenue, NW., Washington, DC 20210; telephone (202) 693-2444. A copy of the Agency's Information-Collection Request (ICR) supporting the need for the information collections specified by the Cotton Dust Standard is available for inspection and copying in the Docket Office, or by requesting a copy from Todd Owen at (202) 693-2444. For electronic copies of the ICR contact OSHA on the Internet at http://www.osha.gov/comp-links.html, and select “Information Collection Requests.”

SUPPLEMENTARY INFORMATION:

I. Background

The Department of Labor, as part of its continuing effort to reduce paperwork and respondent (i.e., employer) burden, conducts a preclearance consultation program to provide the public with an opportunity to comment on proposed and continuing information-collection requirements in accordance with the Paperwork Reduction Act of 1995 (PRA-95) (44 U.S.C. 3506(c)(2)(A)). This program ensures that information is in the desired format, reporting burden (time and cost) is minimal, collection instruments are understandable, and OSHA's estimate of the information-collection burden is correct. The Occupational Safety and Health Act of the 1970 (the “Act”) authorizes information collection by employers as necessary or appropriate for enforcement of the Act, or for developing information regarding the causes and prevention of occupational injuries, illnesses, and accidents (29 U.S.C. 657).

The major information-collection requirements in the Cotton Dust Standard (§ 1910.1043; the “Standard”) specify that employers must: Perform exposure monitoring, including initial, periodic, and additional monitoring; notify each employee in writing of their monitoring results within 20 days after receiving these results; establish a written compliance program; implement a respiratory-protection program in accordance with § 1910.134 (OSHA's Respiratory Protection Standard); and develop a written program of work practices to minimize cotton-dust exposure.

Other paperwork provisions of the Standard require employers to provide employees with medical examinations, including initial examinations for new employees and periodic examinations for other employees exposed to cotton dust under specific conditions. As part of the medical-surveillance program, employers must give written information to the examining physicians, and obtain from these physicians a written opinion regarding the employees' medical results and exposure limitations.

Additional collection-of-information requirements mandate that employers provide training to employees prior to their initial job assignment, at least annually thereafter, if a change occurs in an employee's job assignment or work process, or if an employee indicates a need for retraining. Employers must also post a copy of the Standard and its appendices in a public location at the workplace, and make copies available to employees. On request, the employer must provide OSHA compliance officers and the National Institute for Occupational Safety and Health (NIOSH) with the training material required by this provision. Moreover, employers are to post warning signs in each work area if the concentration of cotton dust is above the permissible exposure limit.

The Standard also specifies that employers must establish and maintain exposure-monitoring and medical-surveillance records for each employee covered by these requirements. In addition, they must make any record required by the Standard available to OSHA compliance officers and NIOSH for examination and copying, and provide exposure-monitoring and medical-surveillance records to employees and their designated representatives. Finally, employers who cease to do business within the period specified for retaining exposure-monitoring and medical-surveillance records, and who have no successor employer, must transmit these records to NIOSH. Employers who remain in business for the entire retention period must, before disposing of these records, notify NIOSH of the impending disposal and transfer the records to NIOSH if it requests the records within three months of being so notified.

II. Special Issues for Comment

OSHA has a particular interest in comments on the following issues:

• Whether the proposed information -collection requirements are necessary for the proper performance of the Agency's functions, including whether the information is useful;

• The accuracy of OSHA's estimate of the burden (time and cost) of the information-collection requirements, including the validity of the methodology and assumptions used;

• The quality, utility, and clarity of the information collected; and

• Ways to minimize the burden on employers who must comply; for example, by using automated or other technological information-collection and -transmission techniques.

III. Proposed Action

OSHA is proposing to decrease the existing burden-hour estimate for, and to extend OMB approval of, the collection-of-information requirements specified by the Standard. The Agency proposes to reduce the current burden-hour estimate from 75,696 hours to 74, 172 hours, a total reduction of 1,524 hours. Although OSHA has added burden hours for employee training, these additional burden hours are offset by a substantial decrease in the estimated number of employees exposed to cotton dust. In addition, the Agency notes that total capital costs determined in this ICR, compared to the previous ICR, rose from $6,059,756 to $6,526,314; this additional cost resulted principally from an increase in the cost of administering a medical examination from $130 to $150. OSHA will summarize the comments submitted in response to this notice, and will include this summary in its request to OMB to extend the approval of this information-collection requirements.

Type of Review: Extension of currently approved information-collection requirements.

Title: Cotton Dust Standard (29 CFR 1910.1043).

OMB Control No.: 1218-0061.

Affected Public: Business or other for-profit; Federal government; State, local, or tribal governments.

No. of Respondents: 570.

Frequency of Response: On occasion; semi-annually; annually.

Average Time per Response: Response times vary from five minutes to maintain a required record to two hours to conduct exposure monitoring.

Estimates Total Burden Hours: 74,172.

Estimated Cost (Operation and Maintenance): $6,526,314.

IV. Authority and Signature

John L. Henshaw, Assistant Secretary of Labor for Occupational Safety and Health, directed the preparation of this notice. The authority for this notice is the Paperwork Reduction Act of 1995 (44 U.S.C. 3506) and Secretary of Labor's Order No. 3-2000 (65 FR 50017).

Signed at Washington, DC, on November 29, 2001.
John L. Henshaw,
Assistant Secretary of Labor.

[FR Doc. 01-30006 Filed 12-3-01; 8:45 am]

BILLING CODE 4510-26-M